FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 4365N.

Name: Logistics Management International, Inc.

Address: 600 Rinehart Road, Suite 1012, Lake Mary, FL 32746.

Date Revoked: November 10, 2011.

Reason: Failed to maintain a valid bond.

License Number: 017572F.

Name: Impex of Doral Logistics, Inc.

Address: 7850 NW 80th Street, Unit 3, Medley, FL 33166.

Date Revoked: November 19, 2011.

Reason: Failed to maintain a valid bond.

License Number: 018525N.

Name: Valu Freight Consolidators, Inc.

Address: 2177 NW 8th Avenue, Miami, FL 33127.

Date Revoked: November 18, 2011.

Reason: Failed to maintain a valid bond.

License Number: 020356N.

Name: C & S Shipping LLC.

Address: 10073 Valley View Street, Suite 412, Cypress, CA 90630.

Date Revoked: November 18, 2011.

Reason: Failed to maintain a valid bond.

License Number: 021301N.

Name: La Republica Cargo Express Corp.

Address: 30 Lawrence Street, Yonkers, NY 10705.

Date Revoked: November 11, 2011.

Reason: Failed to maintain a valid bond.

License Number: 021332NF.

Name: Avion Shipping Corp. dba GR Shipping.

Address: 154-09 146th Avenue, 2nd Floor, Jamaica, NY 11434.

Date Revoked: November 30, 2011.

Reason: Failed to maintain valid bonds.

License Number: 021660F.

Name: Montes Conection LLC. dba Montes Forwarding.

Address: 1050 Front Street, Suite B, Slidell, LA 70458.

Date Revoked: November 11, 2011.

Reason: Failed to maintain a valid bond.

License Number: 021690N.

Name: Scrap Freight, Inc.

Address: 801 S. Garfield Avenue, Suite 101, Alhambra, CA 91803.

Date Revoked: November 20, 2011.

Reason: Failed to maintain a valid bond.

License Number: 021722F.

Name: BDP Project Logistics, LLC.

Address: 510 Walnut Street, Philadelphia, PA 19106.

Date Revoked: November 21, 2011.

Reason: Failed to maintain a valid bond.

License Number: 022741F.

Name: Air Sea Logistics Inc.

Address: 2801 NW 7th Avenue, Suite 106, Miami, FL 33122.

Date Revoked: November 11, 2011.

Reason: Failed to maintain a valid bond.

License Number: 022915NF.

Name: Phoenician Maritime LLC.

Address: 12604 Haynes Road, Houston, TX 77066.

Date Revoked: November 11, 2011.

Reason: Failed to maintain valid bonds.

Sandra L. Kusumoto,
Director, Bureau of Certification and Licensing.

[FR Doc. 2011-32711 Filed 12-21-11; 8:45 am]

BILLING CODE 6730-01-P